DEPARTMENT OF LABOR

Employment and Training Administration

Notice of Determinations Regarding Eligibility to Apply for Worker Adjustment Assistance and NAFTA Transitional Adjustment Assistance

In accordance with Section 223 of the Trade Act of 1974, as amended, the Department of Labor herein presents summaries of determinations regarding eligibility to apply for trade adjustment assistance for workers (TA-W) issued during the period of June, 2001.

In order for an affirmative determination to be made and a certification of eligibility to apply for worker adjustment assistance to be issued, each of the group eligibility requirements of Section 222 of the Act must be met.

(1) that a significant number or proportion of the workers in the workers' firm, or an appropriate subdivision thereof, have become totally or partially separated,

(2) that sales or production, or both, of the firm or subdivision have decreased absolutely, and

(3) that increases of imports of articles like or directly competitive with articles produced by the firm or appropriate subdivision have contributed importantly to the separations, or threat thereof, and to the absolute decline in sales or production.

Negative Determinations for Worker Adjustment Assistance

In each of the following cases the investigation revealed that criterion (3) has not been met. A survey of customers indicated that increased imports did not contribute importantly to worker separations at the firm.

TA-W-38,823; API Gettys, Inc., Including Leased Workers of QPS and Ranstand, Racine, WI

TA-W-39,248; Nypro Oregon, Corvallis, OR

TA-W-39,267; Johnstown Babbitting and Machine Co., Seward, PA

TA-W-38,728; Equistar Chemical L.P., Port Arthur, TX

TA-W-38,843 & A; Venture Lane, Hackensack, NJ and Brand Mills, LTD, Hackensack, NJ

TA-W-38,950; Delfield Co., Mt. Pleasant, MI

In the following cases, the investigation revealed that the criteria for eligibility have not been met for the reasons specified.

Increased imports did not contribute importantly to worker separations at the firm.

TA-W-39,201; Flexfab Horizons International LLC, Hastings, MI

TA-W-38,330; Volunteer Leather, Milan, TN

TA-W-38,142; Bush Brothers and Co., Blytheville, AR

TA-W-39,229; Perfect Fit Industries, Tell City, PA

TA-W-39,097; Vastar Resource, Inc., Houston, TX

TA-W-38,674; York International Corp., Portland, OR

TA-W-39,277; UFE, Inc., River Falls, WI

The workers firm does not produce an article as required for certification under Section 222 of the Trade Act of 1974.

TA-W-39,256; Nortel Networks, Simi Valley, CA

TA-W-39,166; Imperial Home Decor Croup, Plattsburgh, NY

TA-W-38,828; Genicom Corp, Document Solutions Co., Div., Waynesboro, VA

The investigation revealed that criteria (2) has not been met. Sales or production did not decline during the relevant period as required for certification.

TA-W-38,996; Kellwood New England Region, Brockton, MA

Affirmative Determinations for Worker Adjustment Assistance

The following certifications have been issued; the date following the company name and location of each determination references the impact date for all workers of such determination.

TA-W-39,316; Ametek, Inc., Lamb Electric Div., Graham, NC: May 10, 2000

TA-W-39,107; Crown Equipment, Plant 1 Rotator Div., New Bremen, OH: April 16, 2000

TA-W-39,039; Fashion International Scranton, PA: February 24, 2001

TA-W-38,968; Lincoln Brass Works, Inc., Waynesboro, TN: March 23, 2000

TA-W-38,918; Bakka International, El Paso, TX Including Temporary Employees of DSI Teamstaff II Employed at Bakka International, El Paso, TX: March 13, 2000

TA-W-38,831; Shoe Doctor, Inc., Dover, New Hampshire: February 21, 2000

TA-W-38,971; The William Carter Co., Harlingen, TX: March 23, 2000

TA-W-39,174; Lady Hope Dress, Kulpmont, PA: April 17, 2000

TA-W-39,077; Nucor Bearing Products, Wilson, NC: April 6, 2000

TA-W-39,287; Rubbermaid Cleaning Products, Greenville, NC: April 10, 2000

TA-W-38,892; Crest Uniform Co., New York, NY: February 24, 2000

TA-W-39,081; Bassett Furniture Industries, J.D. Bassett Manufacturing, Bassett Table Company, Bassett, VA: April 2, 2000

TA-W-39,079; Glenmore Plastic Industries, Inc., Brooklyn, NY: March 30, 2000

TA-W-38,934; Williamson-Dickie Manufacturing Co., Eagle Pass #4, Eagle Pass, TX: March 15, 2000

TA-W-38,911; ITT Industries, Cheektowaga, NY: March 13, 2000

TA-W-39,062; Gateway Sportswear Corp., Charland Sportswear Corp., Charleroi, PA: April 2, 2000

TA-W-38,875; Drexel Heritage Furnishings, Inc., Black Mountain, NC: March 5, 2000

TA-W-39,275; Drexel Heritage Furnishings, Inc., Plants #3 and #5, Morganton, NC: May 7, 2000

TA-W-39,152; Pioneer America's, Inc., Tacoma, WA: April 12, 2000.

TA-W-39,014; Fairbault Woolen Mill Co., Fairbault, MN: March 29, 2000

TA-W-39,258; Pillowtex Corp., Newton, NC: May 2, 2000

TA-W-39,126; Southern Tees, Inc., Rockingham, NC: April 12, 2000

TA-W-39,361; Avery Dennison, Spartan International Div., Holt, MI: May 11, 2000

Also, pursuant to Title V of the North American Free Trade Agreement Implementation Act (Public Law 103-182) concerning transitional adjustment assistance hereinafter called (NAFTA-TAA) and in accordance with Section 250(a), Subchapter D, Chapter 2, Title II, of the Trade Act as amended, the Department of Labor presents summaries of determinations regarding eligibility to apply for NAFTA-TAA issued during the month of June, 2001.

In order for an affirmative determination to be made and a certification of eligibility to apply for NAFTA-TAA the following group eligibility requirements of Section 250 of the Trade Act must be met:

(1) that a significant number or proportion of the workers in the workers' firm, or an appropriate subdivision thereof, (including workers in any agricultural firm or appropriate subdivision thereof) have become totally or partially separated from employment and either—

(2) that sales or production, or both, of such firm or subdivision have decreased absolutely,

(3) that imports from Mexico or Canada of articles like or directly competitive with articles produced by such firm or subdivision have increased, and that the increases imports contributed importantly to such workers' separations or threat of separation and to the decline in sales or production of such firm or subdivision; or

(4) that there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations. There was no shift in production from the subject firm to Canada or Mexico during the relevant period.

NAFTA-TAA-04769; Flexfab Horizons International L.L.C.

NAFTA-TAA-04740; Travis Knits, Cherryville, NC

NAFTA-TAA-04869; Nypro Oregon, Corvalis, OR

NAFTA-TAA-04875; Drexel Heritage Furnishings, Inc., Plants #3 and #5, Morganton, NC

NAFTA-TAA-04633; Drexel Heritage Furnishings, Inc., Plant #10, Black Mountain, NC

NAFTA-TAA-04899; Heckett Multi Serv, Kansas City, MO

NAFTA-TAA-04481; Spectrum Dyed Yarns, Inc., Belmont, NC

NAFTA-TAA-04523; York International Corp., Portland, OR

The investigation revealed that the criteria for eligibility have not been met for the reasons specified.

The workers firm does not produce an article as required for certification under Section 222 of the Trade Act of 1974.

NAFTA-TAA-04574; Genicom Corp., Document Solutions Company Div., Waynesboro, VA

NAFTA-TAA-04888; Imperial Home Decor Group, Plattsburgh, NY

Affirmative Determinations NAFTA-TAA

NAFTA-TAA-04854; Midcom, Aberdeen, SD: May 11, 2000

NAFTA-TAA-04679; Williamson-Dickie Manufacturing Co., Eagle Pass #4, Eagle Pass, TX: March 15, 2000

NAFTA-TAA-04718; Bassett Furniture Ind., J.D. Bassett

Manufacturing, Bassett Table Co., Bassett, VA: April 2, 2000

NAFTA-TAA-04871; Fiskers Consumer Products, North, SC: May 7, 2000

NAFTA-TAA-04866; Case Corp., Concord Plant, Fargo, ND: May 9, 2000

NAFTA-TAA-04882; Ametek, Inc., Lamb Electric Div., Graham, NC: May 10, 2000

NAFTA-TAA-04739; Mattel, Inc., Murray Production Facility, Murray, KY: April 5, 2000

NAFTA-TAA-04722; Fashion International, Scranton, PA: March 31, 2000

NAFTA-TAA-04724; The William Carter Co., Harlingen, TX: March 23, 2000

I hereby certify that the aforementioned determinations were issued during the month of June, 2001. Copies of these determinations are available for inspection in Room C-5311, U.S. Department of Labor, 200 Constitution Avenue, NW., Washington, DC 20210 during normal business hours or will be mailed to persons who write to the above address.

Dated: June 11, 2001.
Edward A. Tomchick,
Director, Division of Trade Adjustment Assistance.

[FR Doc. 01-16072 Filed 6-26-01; 8:45 am]

BILLING CODE 4510-30-M